DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF), as follows: Chapter KA, Office of the Assistant Secretary for Children and Families, as last amended 66 FR 52627, 10/16/01, and Chapter KN, Office of Public Affairs, as last amended 63 FR 81-87, 01/02/98. This notice adds a new office, the Office of Human Services Emergency Preparedness and Response to the Office of the Assistant Secretary for Children and Families. In addition, this notice notes the name change from the President's Committee on Mental Retardation (PCMR) to the President's Committee for People with Intellectual Disabilities (PCPID). Lastly, this notice moves the Freedom of Information Act (FOIA) Officer and Office of Inspector General (OIG) hotline functions from the Office of the Assistant Secretary for Children and Families to the Office of Public Affairs. The changes are as follows:

I. Under Chapter KA, Office of the Assistant Secretary for Children and Families, Make the Following Changes

A. Delete KA.00 Mission in its entirety and replace with the following:

KA.00 Mission. The Office of the Assistant Secretary for Children and Families (OAS) provides executive direction, leadership, and guidance for all ACF programs. OAS provides national leadership to develop and coordinate public and private initiatives for carrying out programs that promote permanency placement planning, family stability, and self-sufficiency. OAS advises the Secretary on issues affecting America's children and families, including Native Americans, persons with developmental disabilities, refugees, and legalized aliens. OAS provides leadership on human service issues and conducts emergency preparedness and response operations during a nationally declared emergency.

B. Delete KA.10 Organization in its entirety and replace with the following:

KA.10 Organization. The Office of the Assistant Secretary for Children and Families is headed by the Assistant Secretary for Children and Families who reports directly to the Secretary and consists of:

Office of the Assistant Secretary for Children and Families (KA),

President's Committee for People with Intellectual Disabilities Staff (KAD),

Executive Secretariat Office (KAF),

Office of Human Services Emergency Preparedness and Response (KAG).

C. Delete KA.20 Functions in its entirety and replace with the following:

KA.20 Functions. A. Office of the Assistant Secretary for Children and Families (KA): The Office of the Assistant Secretary for Children and Families is responsible to the Secretary for carrying out ACF's mission and provides executive supervision of the major components of ACF. These responsibilities include providing executive leadership and direction to plan and coordinate ACF program activities to ensure their effectiveness, approving instructions, policies, publications, and grant awards issued by ACF, and representing ACF in relationships with governmental and non-governmental organizations. The Assistant Secretary for Children and Families also serves as the Director of the Office of Child Support Enforcement, and signs official child support enforcement documents as the Assistant Secretary for Children and Families. The Principal Deputy Assistant Secretary serves as an alter ego to the Assistant Secretary for Children and Families on program matters and acts in the absence of the Assistant Secretary for Children and Families.

B. President's Committee for People with Intellectual Disabilities Staff (KAD): The President's Committee for People with Intellectual Disabilities (PCPID) staff provides general staff support for a Presidential-level advisory body. It coordinates all meetings and Congressional hearing arrangements; provides such advice and assistance in the areas of intellectual disabilities as the President or the Secretary may request; prepares and issues an annual report to the President concerning intellectual disabilities and such additional reports or recommendations as the President may require or as PCPID may deem appropriate; and evaluates the national effort to prevent and ameliorate intellectual disabilities. It works with other Federal, State, local governments, and private-sector organizations to achieve Presidential goals vis-à-vis intellectual disabilities, and develops and disseminates information to increase public awareness of intellectual disabilities to reduce its incidence and to alleviate its effects. The staff supporting PCPID reports to the Deputy Assistant Secretary for Policy and External Affairs.

C. The Executive Secretariat Office (KAF): The Executive Secretariat Office (ExecSec) ensures that issues requiring the attention of the Assistant Secretary, Deputy Assistant Secretaries and/or executive staff are addressed on a timely and coordinated basis and facilitates decisions on matters requiring immediate action, including White House, Congressional, and Secretarial assignments. ExecSec serves as the ACF liaison with the HHS Executive Secretariat. ExecSec receives, assesses, and controls incoming correspondence and assignments to the appropriate ACF component(s) for response and action and provides assistance and advice to ACF staff on the development of responses to correspondence. ExecSec provides assistance to ACF staff on the use of the controlled correspondence system. ExecSec coordinates and/or prepares Congressional correspondence; and tracks development of periodic reports; and facilitates Departmental clearances.

D. The Office of Human Services Emergency Preparedness and Response (KAG): The Office of Human Services Emergency Preparedness and Response (OHSEPR) provides general staff support for the implementation and coordination of ACF program and human services emergency planning, preparedness, and response during nationally declared emergencies. OHSEPR oversees disaster assessment, response operations and asset-management protocols. OHSEPR coordinates with ACF Central and Regional Offices, ACF State- and local grantee-funded programs, ACF program partner organizations, and the Office of the Secretary, Office of Public Health Emergency Preparedness (OPHEP). OHSEPR coordinates, through the OPHEP, with the Department of Homeland Security Federal Emergency Management Agency on human services emergency planning as part of the National Emergency Plan. The staff supporting the OHSEPR report to the Director of OHSEPR who reports to the Principal Deputy Assistant Secretary.

II. Under Chapter KN, Office of Public Affairs, Make the Following Changes

Delete KN.20 Functions, Paragraph A, in its entirety and replace with the following:

KN.20 Functions. A. Office of Director [63 FR 81-87, 01/02/98] provides leadership and direction to OPA in administering OPA's responsibilities. The Office provides direction and leadership in the areas of public relations policy and communications services. The Office serves as advisor to the Assistant Secretary for Children and Families in the areas of public affairs; provides advice on strategies and approaches to be used to improve public understanding of and access to ACF programs and policies; and coordinates and serves as ACF liaison with the Assistant Secretary for Public Affairs. The Office serves as Regional Liaison on public affairs issues. The Deputy Director assists the Director in carrying out the responsibilities of the Office. The Office serves as the Freedom of Information Act Officer for ACF and coordinates hotline calls received by the Office of Inspector General relating to ACF operations and personnel.

Dated: December 1, 2006.
Wade F. Horn,
Assistant Secretary for Children and Families.

[FR Doc. E6-21010 Filed 12-8-06; 8:45 am]

BILLING CODE 4184-01-P